COMMISSION ON CIVIL RIGHTS

Notice of Public Meeting of the Alaska Advisory Committee for Members of the Committee To Receive Member Orientation and Discuss Civil Rights Issues in the State

AGENCY: U.S. Commission on Civil Rights.

ACTION: Announcement of meeting.

SUMMARY: Notice is hereby given, pursuant to the provisions of the rules and regulations of the U.S. Commission on Civil Rights (Commission) and the Federal Advisory Committee Act (FACA) that a meeting of the Alaska Advisory Committee (Committee) to the Commission will be held on Thursday, May 21, 2015, for the purpose of receiving an orientation on committee procedures and member responsibilities and to discuss possible civil rights issues in the state for examination by the Committee. The meeting will be held by teleconference.

This meeting is available to the public through the following toll-free call-in number: 888-430-8709 conference ID: 1833093. Any interested member of the public may call this number and listen to the meeting. An open comment period will be provided to allow members of the public to make a statement as time allows. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments. The comments must be received in the Western Regional Office of the Commission by June 21, 2015. The address is Western Regional Office, U.S. Commission on Civil Rights, 300 N. Los Angeles Street, Suite 2010, Los Angeles, CA 90012. Persons wishing to email their comments may do so by sending them to Angelica Trevino, Civil Rights Analyst, Western Regional Office, at atrevino@usccr.gov. Persons who desire additional information should contact the Western Regional Office, at (213) 894-3437, (or for hearing impaired TDD 913-551-1414), or by email to atrevino@usccr.gov. Hearing-impaired persons who will attend the meeting and require the services of a sign language interpreter should contact the Regional Office at least ten (10) working days before the scheduled date of the meeting.

Records and documents discussed during the meeting will be available for public viewing prior to and after the meeting at http://facadatabase.gov/committee/meetings.aspx?cid=234 and clicking on the “Meeting Details” and “Documents” links. Records generated from this meeting may also be inspected and reproduced at the Western Regional Office, as they become available, both before and after the meeting. Persons interested in the work of this Committee are directed to the Commission's Web site, http://www.usccr.gov, or may contact the Western Regional Office at the above email or street address.

Agenda:

Introductions

Member orientation

Discussion of civil rights issues in the state

Adjournment

DATES: Thursday, May 21, 2015 from 2 p.m. to 3:00 p.m. AST

Public Call Information:

Dial: 888-430-8709

Conference ID: 1833093

FOR FURTHER INFORMATION CONTACT: Peter Minarik, DFO, at (213) 894-3437 or pminarik@usccr.gov.

Dated: April 27, 2015.
David Mussatt,
Chief, Regional Programs Coordination Unit.

[FR Doc. 2015-10099 Filed 4-29-15; 8:45 am]

BILLING CODE 6335-01-P